DEPARTMENT OF HOMELAND SECURITY

Federal Emergency Management Agency

[Docket ID: FEMA-2020-0023; OMB No. 1660-0005]

Agency Information Collection Activities: Submission for OMB Review; Comment Request; FEMA Inspection and Claims Form

AGENCY: Federal Emergency Management Agency, DHS.

ACTION: 30-Day notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 31, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Daniel Claire, Program Analyst, Federal Insurance & Mitigation Administration, 202-552-9891, Daniel.Claire@fema.dhs.gov or Brian Thompson, Supervisory Program Specialist, FEMA Recovery Directorate, 540-686-3602, Brian.Thompson6@fema.dhs.gov.

SUPPLEMENTARY INFORMATION: This proposed information collection previously published in the Federal Register on May 14, 2020, at 85 FR 28968 with a 60 day public comment period. No comments were received. The purpose of this notice is to notify the public that FEMA will submit the information collection abstracted below to the Office of Management and Budget for review and clearance.

Collection of Information

Title: FEMA Inspection and Claims Forms, formerly National Flood Insurance Program Claim Forms.

Type of information collection: Revision of a currently approved information collection.

OMB Number: 1660-0005.

Form Titles and Numbers: FEMA Form 086-0-6; Personal Property (Contents) Worksheet, FEMA Form 086-0-7; Building Property Worksheet, FEMA Form 086-0-9; Proof of Loss—Building & Contents (Policyholder-Prepared), FEMA Form 086-0-10; Proof of Loss—Increased Cost of Compliance (ICC), FEMA Form 086-0-11; First Notice of Loss, FEMA Form 086-0-17; Manufactured (Mobile) Home/Travel Trailer Worksheet, FEMA Form 086-0-22; Proof of Loss—Building & Contents (Adjuster-Prepared), FEMA Form 086-0-23; Advance Payment Request—Building & Contents, FEMA Form 086-0-24; Advance Payment Request—Increased Cost of Compliance (ICC), FEMA Form 086-0-25; Claim Appeal, FEMA Form 009-0-143; Onsite Housing Inspections, FEMA Form 009-0-144; Remote Voice Telephony Housing Inspections, FEMA Form 009-0-145; Remote Video Telephony Housing Inspections.

Abstract: The claims forms used for the National Flood Insurance Program are used by policyholders to collect the information needed to investigate, document, evaluate, and settle claims against National Flood Insurance Program policies for flood damage to their insured property or qualification for benefits under Increased Cost of Compliance coverage. The housing inspection instruments are used to collect and store damage assessment information in Automated Construction Estimator software to assist in the determination of Individuals and Households Program assistance for applicants with disaster caused damage to their primary residence.

Affected Public: Individuals, households, businesses, or other for-profit.

Estimated Number of Respondents: 312,026.

Estimated Number of Responses: 312,026.

Estimated Total Annual Burden Hours: 314,149.

Estimated Total Annual Respondent Cost: $11,796,263.

Estimated Respondents' Operation and Maintenance Costs: $0.00.

Estimated Respondents' Capital and Start-Up Costs: $0.00.

Estimated Total Annual Cost to the Federal Government: $103,715,613.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-16657 Filed 7-30-20; 8:45 am]

BILLING CODE 9110-52-P